DEPARTMENT OF COMMERCE

International Trade Administration

[A-122-837]

Antidumping Duty Investigation On Greenhouse Tomatoes From Canada: Notice of Postponement of Preliminary Determination

AGENCY: Import Administration, International Trade Administration, Department of Commerce.

ACTION: Notice of postponement of preliminary antidumping duty determination in antidumping duty investigation.

EFFECTIVE DATE: September 27, 2001.

FOR FURTHER INFORMATION CONTACT: Mark Ross or Minoo Hatten, AD/CVD Enforcement 3, Import Administration, International Trade Administration, U.S. Department of Commerce, 14th Street and Constitution Avenue, NW., Washington, DC 20230; telephone; (202) 482-4794 or (202) 482-1690, respectively.

SUMMARY: The Department of Commerce is postponing the preliminary determination of the antidumping duty investigation on greenhouse tomatoes from Canada from September 24, 2001, until October 1, 2001. This postponement is made pursuant to section 733(c)(1)(B) of the Tariff Act of 1930, as amended by the Uruguay Round Agreements Act.

SUPPLEMENTARY INFORMATION:

The Applicable Statute and Regulations

Unless otherwise indicated, all citations to the statute are references to the provisions effective January 1, 1995, the effective date of the amendments made to the Tariff Act of 1930 (the Act) by the Uruguay Round Agreements Act. In addition, unless otherwise indicated, all citations to Department of Commerce's (the Department's) regulations are to 19 CFR Part 351 (2000).

Background

On April 17, 2001, the Department initiated an antidumping duty investigation on greenhouse tomatoes from Canada covering producers and exporters of the subject merchandise to the United States during the period January 1, 2000, through December 31, 2000. See Initiation of Antidumping Duty Investigation: Greenhouse Tomatoes From Canada, 66 FR 20630 (April 24, 2001). The notice stated that, unless postponed, the Department would issue its preliminary determination no later than 140 days after the date of the initiation. On August 21, 2001, the Department published a partial extension of the time limit for the preliminary results of this investigation based on a timely request by the petitioner. See Antidumping Duty Investigation Covering Greenhouse Tomatoes from Canada: Notice of Postponement of Preliminary Determination, 66 FR 43838 (August 21, 2001).

Postponement of Preliminary Determination

Currently, the preliminary determination is due no later than September 24, 2001. However, pursuant to section 733(c)(1)(B) of the Act, we have determined that this investigation is “extraordinarily complicated” and are therefore postponing the preliminary determination by seven days to October 1, 2001.

Under section 733(c)(1)(B) of the Act, the Department can extend the period for reaching a preliminary determination until not later than the 190th day after the date on which the administering authority initiates an investigation if:

(B) The administering authority concludes that the parties concerned are cooperating and determines that—

(i) the case is extraordinarily complicated by reason of—

(I) the number and complexity of the transactions to be investigated or adjustments to be considered,

(II) the novelty of the issues presented; or

(III) the number of firms whose activities must be investigated; and

(ii) additional time is necessary to make the preliminary determination.

The parties concerned are cooperating in this investigation. Additional time is necessary, however, to complete the preliminary determination due to the number of firms whose activities must be investigated. Specifically, there are over 100 Canadian producers/exporters that shipped fresh or chilled tomatoes to the United States during the period of investigation, and most of these producers/exporters ship greenhouse tomatoes. Since it was not practicable to examine all known producers/exporters of subject merchandise, in accordance with section 777A(c)(2) of the Act and 19 CFR 351.204(c)(2), we chose to investigate producers and exporters accounting for the largest volume of the subject merchandise that can reasonably be examined. See the “Selection of Respondents” memorandum dated May 15, 2001, from Laurie Parkhill, Director, Office 3, to Richard W. Moreland, Deputy Assistant Secretary, Group I. Although this limited our examination to five producers/exporters of subject merchandise, several of these respondents had over a dozen suppliers that we needed to evaluate for cost reporting. After identifying the appropriate companies for cost reporting and issuing questionnaires to these companies, we discovered that two of them were resellers of greenhouse tomatoes, not growers. Therefore, we had to request cost-of-production data from the growers that supplied these resellers. After selecting five producers/exporters for reporting sales data and eight growers for reporting cost-of-production data, we discovered several affiliations among these companies that resulted in revisions to our requests for information. Investigating the activities of this large number of companies, and considering the complex sales, cost, and affiliation issues associated with them, has significantly delayed our issuance of requests for information. In addition, this has delayed our ability to review and analyze this information for purposes of calculating dumping margins. As such, we determine that additional time is necessary to complete the preliminary determination in this investigation.

Further, certain members of the Department's team in this investigation were unable to return to the United States from abroad as scheduled during the week of September 10, 2001, due to the closure of the U.S. air system. Because these individuals were knowledgeable about the issues and facts in this investigation and had the responsibility to prepare the preliminary calculations, their delayed return to the United States has affected the Department's ability further to prepare an accurate preliminary determination for this investigation by September 24, 2001.

Therefore, pursuant to section 733(c)(1)(B) of the Act, we are postponing the preliminary determination in this investigation until October 1, 2001. This notice is issued and published pursuant to section 733(c)(2) of the Act and 19 CFR 351.205(f).

Dated: September 20, 2001.
Faryar Shirzad,
Assistant Secretary for Import Administration.

[FR Doc. 01-24246 Filed 9-26-01; 8:45 am]

BILLING CODE 3510-DS-P